DEPARTMENT OF LABOR

Employment and Training Administration

[TA-W-64,742]

American Axle & Manufacturing, Inc., Detroit Forge Plant, Detroit, MI; Notice of Termination of Investigation

In accordance with Section 221 of the Trade Act of 1974, as amended, an investigation was initiated on December 19, 2008, in response to a petition filed by a Michigan State Workforce Office on behalf of workers of American Axle & Manufacturing, Inc., Detroit Forge Plant, Detroit, Michigan.

The worker group is included in an active certification which covers all workers of American Axle & Manufacturing, Inc., Detroit Manufacturing Complex, Detroit, Michigan (TA-W-64,083, amended).

Therefore, the petitioner has requested that the petition be withdrawn and the investigation has been terminated.

Signed in Washington, DC, this 12th day of January 2009.
Linda G. Poole,
Certifying Officer, Division of Trade Adjustment Assistance.

[FR Doc. E9-1481 Filed 1-23-09; 8:45 am]

BILLING CODE 4510-FN-P